DEPARTMENT OF THE INTERIOR

Bureau of Land Management

[NV-030-00-1020-24]

Mojave Southern Great Basin Resource Advisory Council; Notice of Meeting Location and Time

AGENCY: Bureau of Land Management, Interior.

ACTION: Notice of meeting location and time for the Mojave Southern Great Basin Resource Advisory Council (Nevada).

SUMMARY: In accordance with the Federal Land Policy and Management Act and the Federal Advisory Committee Act of 1972 (FACA), the U.S. Department of the Interior, Bureau of Land Management (BLM) Mojave Southern Great Basin Resource Advisory Council (RAC), Nevada, will be held as indicated below. Topics for discussion will include managers' reports of field office activities; an update on the Southern Nevada Public Land Management Act of 1998; and other topics the council may raise.

All meetings are open to the public. The public may present written and/or oral comments to the council at 3 p.m. Thursday August 22, 2002. Individuals who need special assistance such as sign language interpretation or other reasonable accommodations should contact Phillip Guerrero at (702) 515-5046 by August 1, 2002.

DATE AND TIME: The RAC will meet August 21, 22 and 23, 2002 at the Bureau of Land Management, Ely Field Office, 702 North Industrial Way, Ely NV. 89301-9408 from 8:30 a.m. to 4 p.m. The information phone number at the Ely Field Office is 775-289-1800.

FOR FURTHER INFORMATION CONTACT: Phillip L. Guerrero, Public Affairs Officer, BLM Las Vegas Field Office, 4701 North Torrey Pines Drive, Las Vegas NV 89130-2301, or by phone at (702) 515-5046.

Dated: June 14, 2002.
Phillip L. Guerrero,
Public Affairs Officer, Las Vegas Field Office.

[FR Doc. 02-19051 Filed 7-26-02; 8:45 am]

BILLING CODE 4310-HC-P